DEPARTMENT OF ENERGY

Federal Energy Regulatory Commission

[Docket No. EG02-18-000]

Pedricktown Cogeneration Limited Partnership; Notice of Application for Commission Determination of Exempt Wholesale Generator Status

November 26, 2001.

Take notice that on October 31, 2001, Pedricktown Cogeneration Limited Partnership (Pedricktown) tendered for filing with the Federal Energy Regulatory Commission (Commission) an application for determination of exempt wholesale generator status pursuant to part 365 of the Commission's regulations.

Pedricktown is a New Jersey limited partnership which owns and operates a steam combustion turbine with a total capacity of approximately 122 MW (the Facility). The Facility is located at 143 Highway 1320, Pedricktown, New Jersey 08067. Pedricktown also maintains certification as a qualifying cogeneration facility in accordance with the Commission's regulations and will continue to do so in conjunction with the EWG status requested in this application.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the application. All such motions and comments should be filed on or before December 10, 2001, and must be served on the applicant. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29721 Filed 11-29-01; 8:45 am]

BILLING CODE 6717-01-P